DEPARTMENT OF AGRICULTURE

Forest Service

Opal Creek Scenic Recreation Area (SRA) Advisory Council

AGENCY: Forest Service, USDA Forest Service .

ACTION: Action of Meeting.

SUMMARY: The first Opal Creek Scenic Recreation Area Advisory Council meeting will convene in Salem, Oregon on Saturday, June 24, 2000. The meeting is scheduled to begin at 10:00 a.m., and will conclude at approximately 3:00 p.m. The meeting will be held in the Anderson Room A at the Salem Public Library; 585 Liberty St. SE; Salem, Oregon; (503) 588-6071.

The Opal Creek Wilderness and Opal Creek Scenic Recreation Area Act of 1996 (Opal Creek Act) (P.L. 104-208) directed the Secretary of Agriculture to establish the Opal Creek Scenic Recreation Area Advisory Council. The Advisory Council is comprised of thirteen members representing state, county and city governments, and representatives of various organizations, which include mining industry, environmental organizations, inholders in Opal Creek Scenic Recreation Area, economic development, Indian tribes, adjacent landowners and recreation interests. The council provides advice to the Secretary of Agriculture on preparation of a comprehensive Opal Creek Management Plan for the SRA, and consults on a periodic and regular basis on the management of the area. The tentative agenda includes:

(1) Forest Supervisor's opening comments, and introduction of Council Members and Forest Service Staff, (2) determine future meeting location and times, (3) overview of Advisory Council Charter and determine terms of appointment; (4) overview of the Opal Creek Act, (5) overview of the Federal Advisory Committee Act (FACA); (6) overview of the roles of the Advisory Council, Designated Forest Official, and chairperson, (7) overview of the planning and decision making process, and critical benchmarks, and (8) identify preliminary issues within the Scenic Recreation Area

The Public Forum is tentatively scheduled to begin at 2:00 p.m. Time allotted for individual presentations will be limited to 3-4 minutes. Written comments are encouraged, particularly if the material cannot be presented within the time limits for the Public Forum. Written comments may be submitted prior to the June meeting by sending them to Designated Federal Official Stephanie Phillips at the address given below.

FOR FURTHER INFORMATION CONTACT: For more information regarding this meeting, contact Designated Federal Official Stephanie Phillips; Willamette National Forest, Detroit Ranger District, HC 73 Box 320, Mill City, OR 97360; (503) 854-3366.

Dated: May 26, 2000.
Darrel Kenops,
Forest Supervisor.

[FR Doc. 00-13800 Filed 6-1-00; 8:45 am]

BILLING CODE 3410-11-M